DEPARTMENT OF LABOR

Office of the Assistant Secretary for Administration and Management

Agency Information Collection Activities; Comment Request; Application for Use of Public Space by Non-DOL Agencies in the Frances Perkins Building

ACTION: Notice.

SUMMARY: The Department of Labor (DOL) is soliciting comments concerning an Information Collection Request (ICR) proposing to extend Paperwork Reduction Act of 1995 (PRA), authority to conduct the information collection titled, “Application for Use of Public Space by Non-DOL Agencies in the Frances Perkins Building.” This comment request is part of continuing Departmental efforts to reduce paperwork and respondent burden.

DATES: Submit written comments on or before June 27, 2017.

ADDRESSES: Contact Michel Smyth by telephone at 202-693-4129 (this is not a toll-free number) to request a free copy of this ICR that includes applicable supporting documentation providing a description of the likely respondents, proposed frequency of response, and estimated total burden. Submit written comments about, or requests for a copy of, this ICR by mail or courier to the U.S. Department of Labor—OASAM, Office of the Chief Information Officer, Attn: Information Policy and Assessment Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

SUPPLEMENTARY INFORMATION: The DOL headquarters building, the Frances Perkins Building (FPB), has conference and meeting capabilities located in its public space areas that non-DOL entities may request to use. The Administrator of the General Services Administration set forth terms and conditions delegating FPB operation to the DOL, Office of the Assistant Secretary for Administration and Management (OASAM). The delegation sets forth conditions authorizing the DOL to issue occasional use permits for FPB public space. The delegation is also subject to applicable standard operating procedures for Government-owned real properties. More specifically, the DOL may only issue occasional use permits to organizations engaging in cultural, educational, or recreational activities. These permits are generally not available for commercial purposes. Any person or organization wishing to use a FPB public area must file a permit application with the DOL Conference Rooms and Services Center. Applicants must submit the following information: (a) Applicant's full name, mailing address, and telephone number; (b) organization sponsoring the proposed activity; (c) individual(s) responsible for supervising the activity; (d) documentation showing the applicant is authorized to represent the sponsoring organization; and (e) a description of the proposed activity, including dates and times during which it is to be conducted and the number of persons to be involved. OASAM policies and procedures concerning FPB public space are set forth in DOL Manual Series section 2-510 and an application—Form DL-1-6062B, Application for Use of Public Space by Non-DOL Agencies in the Frances Perkins Building.

This information collection is subject to the PRA. A Federal agency generally cannot conduct or sponsor a collection of information, and the public is generally not required to respond to an information collection, unless it is approved by the Office of Management and Budget (OMB) under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1225-0087. The DOL intends to seek continued approval for this collection of information for an additional three years.

The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed. Interested parties are encouraged to provide comments to the contact shown in the ADDRESSES section. Comments must be written to receive consideration, and they will be summarized and included in the request for OMB approval of the ICR. Submitted comments will also be a matter of public record for this ICR and posted on the Internet, without redaction. The DOL encourages commenters not to include personally identifiable information, confidential business data, or other sensitive information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Type of Review: Extension without change of a currently approved collection.

Title of Collection: Application for Use of Public Space by Non-DOL Agencies in the Frances Perkins Building.

Form: Application for Use of Public Space by Non-DOL Agencies in the Frances Perkins Building (Form DL-1-6062B).

OMB Control Number: 1225-0087.

Affected Public: Private Sector—not for-profit institutions.

Estimated Number of Respondents: 5.

Frequency: On occasion.

Total Estimated Annual Responses: 5.

Estimated Average Time per Response: 5 minutes.

Estimated Total Annual Burden Hours: 1 hour.

Total Estimated Annual Other Cost Burden: $0.

Authority: 44 U.S.C. 3506(c)(2)(A).

Dated: April 24, 2017.
Michel Smyth,
Departmental Clearance Officer.

[FR Doc. 2017-08612 Filed 4-27-17; 8:45 am]

BILLING CODE 4510-23-P